DEPARTMENT OF TRANSPORTATION

Federal Aviation Administration

14 CFR Part 39

[Docket No. FAA-2006-24084; Directorate Identifier 2006-NM-017-AD]

RIN 2120-AA64

Airworthiness Directives; Raytheon Model Hawker 800XP Airplanes

AGENCY: Federal Aviation Administration (FAA), Department of Transportation (DOT).

ACTION: Notice of proposed rulemaking (NPRM).

SUMMARY: The FAA proposes to adopt a new airworthiness directive (AD) for certain Raytheon Model Hawker 800XP airplanes. This proposed AD would require inspecting certain bus bars in the DA-A panel to ensure that the bus bars match the panel configuration and clearance is adequate between the bus bars and adjacent components, and performing corrective action if necessary. This proposed AD results from two reports of inadequate clearance between the bus bars in the DA-A panel. We are proposing this AD to prevent insufficient electrical isolation for the electrical bus configuration and inability of the flightcrew to isolate the bus bars in an emergency situation involving a dual generator failure, which could result in extra loads on the main ship batteries and consequent loss of power to the main essential bus.

DATES: We must receive comments on this proposed AD by April 21, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Raytheon Aircraft Company, Department 62, P.O. Box 85, Wichita, Kansas, 67201-0085, for the service information identified in this proposed AD.

FOR FURTHER INFORMATION CONTACT: Philip Petty, Aerospace Engineer, Electrical Systems and Avionics, ACE-119W, FAA, Wichita Aircraft Certification Office, 1801 Airport Road, room 100, Mid-Continent Airport, Wichita, Kansas 67209; telephone (316) 946-4139; fax (316) 946-4107.

SUPPLEMENTARY INFORMATION:

Comments Invited

We invite you to submit any relevant written data, views, or arguments regarding this proposed AD. Send your comments to an address listed in the ADDRESSES section. Include the docket number “FAA-2006-24084; Directorate Identifier 2006-NM-017-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

We have received two reports of inadequate clearance between the bus bars in the DA-A panel on Raytheon Model Hawker 800XP airplanes. This condition, if not corrected, could result in insufficient electrical isolation for the electrical bus configuration and inability of the flightcrew to isolate the bus bars in an emergency situation involving a dual generator failure, which could result in extra loads on the main ship batteries and consequent loss of power to the main essential bus.

Relevant Service Information

We have reviewed Raytheon Service Bulletin SB 24-3745, Revision 1, dated September 2005. The service bulletin describes procedures for inspecting certain bus bars in the DA-A panel to ensure that the bus bars match the panel configuration and clearance is adequate between the bus bars and adjacent components, and performing corrective action if necessary. For any bus bar that does not match the panel configuration, or if inadequate clearance exists, the corrective action includes removing the applicable bus bar(s), straightening the bus bar(s) and lug(s) if necessary, and reconfiguring the bus bars to match the configuration shown in Figure 1 of the service bulletin.

Accomplishing the actions specified in the service information is intended to adequately address the unsafe condition.

FAA's Determination and Requirements of the Proposed AD

We have evaluated all pertinent information and identified an unsafe condition that is likely to exist or develop on other airplanes of this same type design. For this reason, we are proposing this AD, which would require accomplishing the actions specified in the service information described previously, except as discussed under Difference Between Proposed AD and Service Bulletin.

Difference Between Proposed AD and Service Bulletin

Although the Accomplishment Instructions of the service bulletin referenced in this proposed AD specify to submit certain information to the manufacturer, this proposed AD does not include that requirement.

Clarification of Service Bulletin Note

The service bulletin includes a note in the Accomplishment Instructions to inform operators to contact Raytheon “should any difficulty be encountered” in accomplishing the service bulletin. We have included Note 2 in this proposed AD to clarify that any deviation from the instructions provided in the service bulletin must be approved as an alternative method of compliance under paragraph (i)(1) of this proposed AD.

Costs of Compliance

There are about 164 airplanes of the affected design in the worldwide fleet. This proposed AD would affect about 123 airplanes of U.S. registry. The proposed inspection would take about 1 work hour per airplane, at an average labor rate of $65 per work hour. Based on these figures, the estimated cost of the proposed inspection for U.S. operators is $7,995, or $65 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Raytheon Aircraft Company: Docket No. FAA-2006-24084; Directorate Identifier 2006-NM-017-AD.

Comments Due Date

(a) The FAA must receive comments on this AD action by April 21, 2006.

Affected ADs

(b) None.

Applicability

(c) This AD applies to Raytheon Model Hawker 800XP airplanes, certificated in any category; serial numbers 258541, 258556, 258567 through 258609 inclusive, 258611 through 258628 inclusive, 258630 through 258684 inclusive, and 258686 through 258728 inclusive.

Unsafe Condition

(d) This AD results from two reports of inadequate clearance between the bus bars in the DA-A panel. We are issuing this AD to prevent insufficient electrical isolation for the electrical bus configuration and inability of the flightcrew to isolate the bus bars in an emergency situation involving a dual generator failure, which could result in extra loads on the main ship batteries and consequent loss of power to the main essential bus.

Compliance

(e) You are responsible for having the actions required by this AD performed within the compliance times specified, unless the actions have already been done.

Inspection/Corrective Action

(f) Within 30 days after the effective date of this AD: Do a detailed inspection of the four bus bars in the DA-A panel to ensure that the bus bars match the panel configuration and clearance is adequate between the bus bars and adjacent components, by doing all the actions in accordance with the Accomplishment Instructions of Raytheon Service Bulletin SB 24-3745, Revision 1, dated September 2005. Accomplish any applicable corrective action before further flight in accordance with the service bulletin.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Note 2: A note in the Accomplishment Instructions of the Raytheon service bulletin instructs operators to contact Raytheon if any difficulty is encountered in accomplishing the service bulletin. However, any deviation from the instructions provided in the service bulletin must be approved as an alternative method of compliance (AMOC) under paragraph (i)(1) of this AD.

Inspections Accomplished According to Previous Issue of Service Bulletin

(g) Inspections accomplished before the effective date of this AD according to Raytheon Service Bulletin SB 24-3745, dated September 2005, are considered acceptable for compliance with the inspections specified in paragraph (f) of this AD.

No Reporting Requirement

(h) Although the Accomplishment Instructions of Raytheon Service Bulletin SB 24-3745, Revision 1, dated September 2005, specify submitting certain information to the manufacturer, this AD does not include that requirement.

Alternative Methods of Compliance (AMOCs)

(i)(1) The Manager, Wichita Aircraft Certification Office (ACO), FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Issued in Renton, Washington, on February 27, 2006.
Ali Bahrami,
Manager, Transport Airplane Directorate, Aircraft Certification Service.

[FR Doc. E6-3219 Filed 3-6-06; 8:45 am]

BILLING CODE 4910-13-P